DEPARTMENT OF ENERGY

Federal Energy Regulatory Commission

Combined Notice of Filings

Take notice that the Commission has received the following Natural Gas Pipeline Rate and Refund Report filings:

Filings Instituting Proceedings

Docket Numbers: RP13-1078-000.

Applicants: Dauphin Island Gathering Partners.

Description: 2013 Cash Out Refund Report for Dauphin Island Gathering Partners.

Filed Date: 7/17/13.

Accession Number: 20130717-5005.

Comments Due: 5 p.m. ET 7/29/13.

Docket Numbers: RP13-1079-000.

Applicants: Energy West Development, Inc.

Description: FT and IT rates to be effective 10/1/2013.

Filed Date: 7/17/13.

Accession Number: 20130717-5101.

Comments Due: 5 p.m. ET 7/29/13.

Docket Numbers: RP13-1081-000.

Applicants: Natural Gas Pipeline Company of America.

Description: NJR Energy Negotiated Rate to be effective 7/17/2013.

Filed Date: 7/17/13.

Accession Number: 20130717-5193.

Comments Due: 5 p.m. ET 7/29/13.

Docket Numbers: RP13-1082-000.

Applicants: Texas Eastern Transmission, LP.

Description: Texas Eastern Transmission, LP submits tariff filing per 154.203: Termination of Rate Schedules X-62 and X-121 to be effective 10/1/2013.

Filed Date: 7/17/13.

Accession Number: 20130717-5239.

Comments Due: 5 p.m. ET 7/29/13.

Docket Numbers: RP13-1083-000.

Applicants: Natural Gas Pipeline Company of America.

Description: Natural Gas Pipeline Company of America LLC submits tariff filing per 154.204: Renaissance Trading Negotiated Rate to be effective 7/17/2013.

Filed Date: 7/17/13.

Accession Number: 20130717-5256.

Comments Due: 5 p.m. ET 7/29/13.

Docket Numbers: RP13-1084-000.

Applicants: Natural Gas Pipeline Company of America.

Description: Natural Gas Pipeline Company of America LLC submits tariff filing per 154.204: Macquarie Negotiated Rate to be effective 7/17/2013.

Filed Date: 7/17/13.

Accession Number: 20130717-5295.

Comments Due: 5 p.m. ET 7/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2013.
Nathaniel J. Davis, Sr.,
Deputy Secretary.

[FR Doc. 2013-17900 Filed 7-24-13; 8:45 am]

BILLING CODE 6717-01-P